INTERNATIONAL TRADE COMMISSION

[Investigation Nos. 701-TA-707 and 731-TA-1668 (Final)]

Melamine From India

Determinations

On the basis of the record ¹ developed in the subject investigations, the United States International Trade Commission (“Commission”) determines, pursuant to the Tariff Act of 1930 (“the Act”), that an industry in the United States is materially injured by reason of imports of melamine from India, provided for in subheading 2933.61.00 of the Harmonized Tariff Schedule of the United States, that have been found by the U.S. Department of Commerce (“Commerce”) to be sold in the United States at less than fair value (“LTFV”) and subsidized by the government of India.2 3

¹ The record is defined in § 207.2(f) of the Commission's Rules of Practice and Procedure (19 CFR 207.2(f)).

² 90 FR 9413 and 9415, February 12, 2025.

³ The Commission also finds that imports subject to Commerce's affirmative critical circumstances determinations are not likely to undermine seriously the remedial effect of the antidumping and countervailing duty orders on India.

Background

The Commission instituted these investigations effective February 14, 2024, following receipt of petitions filed with the Commission and Commerce by Cornerstone Chemical Company, Waggaman, Louisiana. The Commission scheduled the final phase of the investigations following notification of preliminary determinations by Commerce that imports of melamine are being subsidized by the governments of Germany, India, Qatar, and Trinidad and Tobago within the meaning of section 703(b) of the Act (19 U.S.C. 1671b(b)) and imports of melamine from Germany, India, Japan, Netherlands, Qatar, and Trinidad and Tobago are being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of September 30, 2024 (89 FR 79637). The Commission conducted its hearing on December 3, 2024. All persons who requested the opportunity were permitted to participate.

The investigation schedules became staggered when Commerce postponed the final determination for its antidumping duty investigation regarding India, and aligned the final determination for its countervailing duty investigation regarding India with the corresponding antidumping duty investigation, but did not postpone the final determinations in the remaining antidumping duty and countervailing duty investigations. Following notification of final determinations by Commerce that imports of melamine from India were being subsidized by the government of India within the meaning of section 703(b) of the Act (19 U.S.C. 1671b(b)) and sold at LTFV within the meaning of section 735(a) of the Act (19 U.S.C. 1673d(a)), notice of the supplemental scheduling of the final phase of the Commission's countervailing duty and antidumping duty investigations was given by posting copies of the notice in the Office of the Secretary, U.S. International Trade Commission, Washington, DC, and by publishing the notice in the Federal Register of February 21, 2025 (90 FR 10083).

The Commission made these determinations pursuant to § 735(b) of the Act (19 U.S.C. 1673d(b)). It completed and filed its determinations in these investigations on March 31, 2025. The views of the Commission are contained in USITC Publication 5603 (March 2025), entitled Melamine from India: Investigation Nos. 701-TA-707 and 731-TA-1668 (Final).

By order of the Commission.

Issued: April 16, 2025.
Lisa Barton,
Secretary to the Commission.

[FR Doc. 2025-06789 Filed 4-18-25; 8:45 am]

BILLING CODE 7020-02-P